DEPARTMENT OF HEALTH AND HUMAN SERVICES

National Institutes of Health

National Institute on Deafness and Other Communication Disorders; Amended Notice of Meeting

Notice is hereby given of a change in the meeting of the Communication Disorders Review Committee, June 21, 2007, 8 a.m. to June 22, 2007, 5 p.m., Wyndham Hotel, 101 W. Fayette Street, Baltimore, MD 21202 which was published in the Federal Register on May 4, 2007, 72 FR 25323.

The meeting will be held June 20-21, 2007. The meeting is closed to the public.

Dated: May 21, 2007.
Jennifer Spaeth,
Director, Office of Federal Advisory Committee Policy.

[FR Doc. 07-2615 Filed 5-25-07; 8:45 am]

BILLING CODE 4140-01-M